FEDERAL RESERVE SYSTEM

Formations of, Acquisitions by, and Mergers of Bank Holding Companies; Correction

This notice corrects a notice (FR Doc. 2014-26267) published on page 65659 of the issue for Wednesday, November 5, 2014.

Under the Federal Reserve Bank of Chicago heading, the entry for First Busey Corporation, Illinois, is revised to read as follows:

A. Federal Reserve Bank of Chicago (Colette A. Fried, Assistant Vice President) 230 South LaSalle Street, Chicago, Illinois 60690-1414:

1. First Busey Corporation, Champaign, Illinois; to merge with Herget Financial Corporation, and thereby indirectly acquire Herget Bank, National Association, both in Pekin, Illinois.

Comments on this application must be received by December 1, 2014.

Board of Governors of the Federal Reserve System, November 6, 2014.
Michael J. Lewandowski,
Associate Secretary of the Board.

[FR Doc. 2014-26721 Filed 11-10-14; 8:45 am]

BILLING CODE 6210-01-P